DEPARTMENT OF ENERGY

Federal Energy Regulatory Commission

Combined Notice of Filings #1

Take notice that the Commission received the following electric corporate filings:

Docket Numbers: EC24-19-000.

Applicants: NMRD Data Center II, LLC, NMRD Data Center III, LLC.

Description: Supplement to November 13, 2023 Joint Application for Authorization Under Section 203 of the Federal Power Act of NMRD Data Center II, LLC, et al.

Filed Date: 12/8/23.

Accession Number: 20231208-5196.

Comment Date: 5 p.m. ET 12/18/23.

Take notice that the Commission received the following electric rate filings:

Docket Numbers: ER10-2178-042; ER10-2184-029; ER10-2192-042; ER11-2005-027; ER11-2013-027; ER11-2014-027; ER13-1536-026.

Applicants: Constellation Energy Generation, LLC, Cow Branch Wind Power, LLC, CR Clearing, LLC, Wind Capital Holdings, LLC, Constellation Energy Commodities Group Maine, LLC, CER Generation, LLC, Constellation NewEnergy, Inc.

Description: Triennial Market Power Analysis for Southeast Region of Constellation NewEnergy, Inc., et al.

Filed Date: 12/8/23.

Accession Number: 20231208-5213.

Comment Date: 5 p.m. ET 2/6/24.

Docket Numbers: ER22-2776-002.

Applicants: Shelby County Energy Center, LLC.

Description: Compliance filing: Compliance to 9 to be effective 11/1/2022.

Filed Date: 12/11/23.

Accession Number: 20231211-5072.

Comment Date: 5 p.m. ET 1/2/24.

Docket Numbers: ER22-2777-002.

Applicants: Tilton Energy LLC.

Description: Compliance filing: Compliance to 2124 to be effective 11/1/2022.

Filed Date: 12/11/23.

Accession Number: 20231211-5075.

Comment Date: 5 p.m. ET 1/2/24.

Docket Numbers: ER23-691-002; ER23-692-002.

Applicants: Hecate Energy Albany 2 LLC, Hecate Energy Albany 1 LLC.

Description: Notice of Non-Material Change in Status of Hecate Energy Albany 1 LLC, et al.

Filed Date: 12/11/23.

Accession Number: 20231211-5076.

Comment Date: 5 p.m. ET 1/2/24.

Docket Numbers: ER23-1492-001.

Applicants: Santa Paula Energy Storage, LLC.

Description: Notice of Non-Material Change in Status of Santa Paula Energy Storage, LLC.

Filed Date: 12/8/23.

Accession Number: 20231208-5197.

Comment Date: 5 p.m. ET 12/29/23.

Docket Numbers: ER23-2952-001.

Applicants: Wind Stream Properties, LLC.

Description: Tariff Amendment: Wind Stream Amended MBR Application Filing to be effective 1/1/2024.

Filed Date: 12/8/23.

Accession Number: 20231208-5206.

Comment Date: 5 p.m. ET 12/18/23.

Docket Numbers: ER24-98-001.

Applicants: PJM Interconnection, L.L.C.

Description: Tariff Amendment: Deficiency Response on Capacity Market Reforms Revisions in ER24-98 to be effective 12/12/2023.

Filed Date: 12/8/23.

Accession Number: 20231208-5201.

Comment Date: 5 p.m. ET 12/29/23.

Docket Numbers: ER24-171-000.

Applicants: Skysol, LLC.

Description: Supplement to October 20, 2023 Skysol, LLC tariff filing.

Filed Date: 12/8/23.

Accession Number: 20231208-5194.

Comment Date: 5 p.m. ET 12/15/23.

Docket Numbers: ER24-615-000.

Applicants: FirstEnergy Pennsylvania Electric Company.

Description: 205(d) Rate Filing: 2023-12-08 Modifications to Generation Facility Interconnection Agreement to be effective 12/31/9998.

Filed Date: 12/8/23.

Accession Number: 20231208-5210.

Comment Date: 5 p.m. ET 12/29/23.

Docket Numbers: ER24-616-000.

Applicants: PJM Interconnection, L.L.C.

Description: 205(d) Rate Filing: Original NSA, SA No. 7139; Queue No. AD2-086/AE1-090 to be effective 11/10/2023.

Filed Date: 12/11/23.

Accession Number: 20231211-5045.

Comment Date: 5 p.m. ET 1/2/24.

Docket Numbers: ER24-617-000.

Applicants: Midcontinent Independent System Operator, Inc., American Transmission Company LLC.

Description: 205(d) Rate Filing: Midcontinent Independent System Operator, Inc. submits tariff filing per 35.13(a)(2)(iii: 2023-12-11_SA 4211 ATC-Rock Energy PCA to be effective 2/10/2024.

Filed Date: 12/11/23.

Accession Number: 20231211-5079.

Comment Date: 5 p.m. ET 1/2/24.

Docket Numbers: ER24-618-000.

Applicants: PJM Interconnection, L.L.C.

Description: Compliance filing: Compliance Filing Substituting Real-Time Values for Temporary Exceptions to be effective 11/30/2023.

Filed Date: 12/11/23.

Accession Number: 20231211-5081.

Comment Date: 5 p.m. ET 1/2/24.

Docket Numbers: ER24-619-000.

Applicants: MS Solar 5, LLC.

Description: Baseline eTariff Filing: MS Solar 5, LLC MBR Application Filing to be effective 2/10/2024.

Filed Date: 12/11/23.

Accession Number: 20231211-5086.

Comment Date: 5 p.m. ET 1/2/24.

Docket Numbers: ER24-620-000.

Applicants: PJM Interconnection, L.L.C.

Description: 205(d) Rate Filing: Original NSA, Service Agreement No. 7148; Queue No. AF1-158 to be effective 2/10/2024.

Filed Date: 12/11/23.

Accession Number: 20231211-5122.

Comment Date: 5 p.m. ET 1/2/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 11, 2023.
Debbie-Anne A. Reese,
Deputy Secretary.

[FR Doc. 2023-27574 Filed 12-14-23; 8:45 am]

BILLING CODE 6717-01-P